DEPARTMENT OF ENERGY

Federal Energy Regulatory Commission

Combined Notice of Filings #1

Take notice that the Commission received the following exempt wholesale generator filings:

Docket Numbers: EG23-243-000.

Applicants: 20SD 8me LLC.

Description: 20SD 8me LLC submits Notice of Self-Certification of Exempt Wholesale Generator Status.

Filed Date: 8/2/23.

Accession Number: 20230802-5154.

Comment Date: 5 p.m. ET 8/23/23.

Take notice that the Commission received the following Complaints and Compliance filings in EL Dockets:

Docket Numbers: EL23-89-000.

Applicants: Brookfield Renewable Trading and Marketing LP v. ISO New England Inc.

Description: Complaint of Brookfield Renewable Trading and Marketing LP v. ISO New England Inc.

Filed Date: 8/2/23.

Accession Number: 20230802-5076.

Comment Date: 5 p.m. ET 8/22/23.

Take notice that the Commission received the following electric rate filings:

Docket Numbers: ER23-2402-000.

Applicants: Montana-Dakota Utilities Co.

Description: Request for Approval of Transmission Rate Incentives of Montana-Dakota Utilities Co.

Filed Date: 7/14/23.

Accession Number: 20230714-5154.

Comment Date: 5 p.m. ET 8/16/23.

Docket Numbers: ER23-2542-000.

Applicants: Narragansett Electric Company d/b/a Rhode Island Energy.

Description: Petition For Limited Waiver of Tariff Provisions of The Narragansett Electric Company.

Filed Date: 7/31/23.

Accession Number: 20230731-5280.

Comment Date: 5 p.m. ET 8/21/23.

Docket Numbers: ER23-2543-000.

Applicants: Duke Energy Carolinas, LLC.

Description: Notice of Cancellation of Service Agreements of Duke Energy Carolinas, LLC.

Filed Date: 8/1/23.

Accession Number: 20230801-5222.

Comment Date: 5 p.m. ET 8/22/23.

Docket Numbers: ER23-2544-000.

Applicants: Southwest Power Pool, Inc.

Description: § 205(d) Rate Filing: 3909R1 Rocking R Solar GIA to be effective 7/7/2023.

Filed Date: 8/2/23.

Accession Number: 20230802-5075.

Comment Date: 5 p.m. ET 8/23/23.

Docket Numbers: ER23-2545-000.

Applicants: Alabama Power Company, Georgia Power Company, Mississippi Power Company.

Description: § 205(d) Rate Filing: Alabama Power Company submits tariff filing per 35.13(a)(2)(iii: Centaurus Solar LGIA Filing to be effective 7/27/2023.

Filed Date: 8/2/23.

Accession Number: 20230802-5084.

Comment Date: 5 p.m. ET 8/23/23.

Docket Numbers: ER23-2546-000.

Applicants: Deer Creek Solar I LLC.

Description: Tariff Amendment: Notice of Termination to be effective8/3/2023.

Filed Date: 8/2/23.

Accession Number: 20230802-5099.

Comment Date: 5 p.m. ET 8/23/23.

Docket Numbers: ER23-2547-000.

Applicants: Yellow Pine Energy Center I, LLC.

Description: Tariff Amendment: Notice of Cancellation of Market-Based Rate Tariff to be effective 8/3/2023.

Filed Date: 8/2/23.

Accession Number: 20230802-5106.

Comment Date: 5 p.m. ET 8/23/23.

Docket Numbers: ER23-2548-000.

Applicants: Yellow Pine Energy Center II, LLC.

Description: Tariff Amendment: Notice of Cancellation of Market-Based Rate Tariff to be effective 8/3/2023.

Filed Date: 8/2/23.

Accession Number: 20230802-5107.

Comment Date: 5 p.m. ET 8/23/23.

Docket Numbers: ER23-2549-000.

Applicants: NGP Blue Mountain I LLC.

Description: § 205(d) Rate Filing: Revised Market-Based Rate Tariffs to be effective 8/3/2023.

Filed Date: 8/2/23.

Accession Number: 20230802-5113.

Comment Date: 5 p.m. ET 8/23/23.

Docket Numbers: ER23-2550-000.

Applicants: Hudson Ranch Power I LLC.

Description: § 205(d) Rate Filing: Revised Market-Based Rate Tariffs to be effective 8/3/2023.

Filed Date: 8/2/23.

Accession Number: 20230802-5114.

Comment Date: 5 p.m. ET 8/23/23.

Docket Numbers: ER23-2551-000.

Applicants: Patua Acquisition Company, LLC.

Description: § 205(d) Rate Filing: Revised Market-Based Rate Tariffs to be effective 8/3/2023.

Filed Date: 8/2/23.

Accession Number: 20230802-5117.

Comment Date: 5 p.m. ET 8/23/23.

Docket Numbers: ER23-2552-000.

Applicants: Clean Energy Future—Lordstown, LLC.

Description: § 205(d) Rate Filing: Revised Market-Based Rate Tariff to be effective 8/3/2023.

Filed Date: 8/2/23.

Accession Number: 20230802-5121.

Comment Date: 5 p.m. ET 8/23/23.

Docket Numbers: ER23-2553-000.

Applicants: Cleco Cajun LLC.

Description: § 205(d) Rate Filing: Revised Market-Based Rate Tariff to be effective 8/3/2023.

Filed Date: 8/2/23.

Accession Number: 20230802-5123.

Comment Date: 5 p.m. ET 8/23/23.

Docket Numbers: ER23-2554-000.

Applicants: Midland Wind, LLC.

Description: Baseline eTariff Filing: Application for Market-Based Rate Authorization, Request for Related Waivers to be effective 10/2/2023.

Filed Date: 8/2/23.

Accession Number: 20230802-5127.

Comment Date: 5 p.m. ET 8/23/23.

Docket Numbers: ER23-2555-000.

Applicants: Midcontinent Independent System Operator, Inc., American Transmission Company LLC.

Description: § 205(d) Rate Filing: Midcontinent Independent System Operator, Inc. submits tariff filing per 35.13(a)(2)(iii: 2023-08-02_SA 4147 ATC-Plymouth Utilities PCA to be effective 10/2/2023.

Filed Date: 8/2/23.

Accession Number: 20230802-5129.

Comment Date: 5 p.m. ET 8/23/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: August 2, 2023.
Debbie-Anne A. Reese,
Deputy Secretary.

[FR Doc. 2023-16944 Filed 8-7-23; 8:45 am]

BILLING CODE 6717-01-P